DEPARTMENT OF ENERGY

Availability of 2014-2018 Draft Strategic Plan and Request for Public Comment

AGENCY: Department of Energy (DOE).

ACTION: Notice of availability of DOE's Draft Strategic Plan and request for comment.

SUMMARY: The Department of Energy (DOE) invites the public to comment on the draft DOE 2014-2018 Strategic Plan. The Government Performance and Results Act (GPRA) Modernization Act of 2010 requires that federal agencies revise and update their strategic plan at least every four years and, in doing so, solicit the views of interested members of the public during this process.

DATES: Submit comments on or before noon, December 17, 2013.

ADDRESSES: Electronic mail comments may be submitted to: strategicplan@hq.doe.gov. Please include “DOE Strategic Plan” in the subject line. Please put the full body of your comments in the text of the electronic message and as an attachment. Please include your name, title, organization, postal address, telephone number, and email address in the text of the message.

Comments may also be submitted by surface mail to: Department of Energy, Office of the Chief Financial Officer, 1000 Independence Ave. SW., Washington, DC 20585.

Respondents are encouraged to submit comments electronically to ensure timely receipt.

The draft DOE 2014-2018 Strategic Plan can be accessed at http://energy.gov/about-us/budget-performance.

FOR FURTHER INFORMATION CONTACT: Chris Johns, DOE Office of the Chief Financial Officer, at (202) 586-4180, or email christopher.johns@hq.doe.gov.

SUPPLEMENTARY INFORMATION: The DOE was established in October 1977. The DOE is responsible for advancing the energy, environmental, and nuclear security of the United States; promoting scientific and technological innovation in support of that mission; sponsoring basic research in the physical sciences; and ensuring the environmental cleanup of the nation's nuclear weapons complex. The workforce is comprised of approximately 14,000 federal employees and over 90,000 contractor employees at the 17 national laboratories that provide world-class scientific, technological, and engineering capabilities to support the DOE science, energy, and national security missions.

Since taking office, President Obama and DOE Secretary Moniz have articulated clear goals for DOE in the areas of energy, science, national security, environmental clean-up, and management. The Department's first strategic goal, for energy and science, is to advance foundational science, innovate energy technologies, and inform data driven policies that enhance U.S. economic growth and job creation, energy security, and environmental quality, with emphasis on implementation of the President's Climate Action Plan to mitigate the risks of and enhance resilience against climate change. DOE's strategic goal for national security is to enhance national security by maintaining and modernizing the nuclear deterrent, reducing global nuclear and cyber security threats, providing for nuclear propulsion, and stewarding key science, technology, and engineering capabilities and supporting infrastructure. The Department's strategic goal for management and performance is to position the Department of Energy to meet the challenges of the 21st century and the nation's Cold War legacy responsibilities by improving the effectiveness, efficiency and responsiveness of Departmental management and operations, enhanced stewardship of environmental management and legacy issues, modernization of Departmental facilities and infrastructure and more efficient and responsive mission support.

The strategy behind these goals is explained in the draft DOE Strategic Plan. The plan outlines how the DOE will focus its world leading science and research and development programs on the nation's most pressing energy and security challenges. It is important to note that the draft strategic plan is not a national energy plan, since that is an inherently multi-agency effort.

The draft DOE Strategic Plan outlines the strategies the DOE intends to employ for best utilizing these resources. Once completed, the DOE Strategic Plan shall be a matter of public record and will be published on the DOE Web site at http://energy.gov/about-us/budget-performance.

While comments are invited on all aspects of the DOE Strategic Plan, DOE is particularly interested in: (a) Whether the plan is easy to read and understand; (b) whether the plan is complete, sufficiently covering topics of interest to the public; and (c) ways to enhance the quality of the information in the plan.

Public Participation Policy

It is the policy of the Department to ensure that public participation is an integral and effective part of DOE activities, and that decisions are made with the benefit of significant public perspectives.

The Department recognizes the many benefits to be derived from public participation for both stakeholders and DOE. Public participation provides a means for DOE to gather a diverse collection of opinions, perspectives, and values from the broadest spectrum of the public, enabling the Department to make more informed decisions. Public participation benefits stakeholders by creating an opportunity to provide input on decisions that affect their communities and our nation.

Issued in Washington, DC, on November 27, 2013.
Alison L. Doone,
Deputy Chief Financial Officer, Department of Energy.

[FR Doc. 2013-28959 Filed 12-3-13; 8:45 am]

BILLING CODE 6450-01-P